DEPARTMENT OF JUSTICE

Notice of Lodging of Proposed Settlement Agreement Under the Comprehensive Environmental Response, Compensation, and Liability Act

On August 23, 2018, the Department of Justice lodged a proposed Settlement Agreement with the United States Bankruptcy Court for the District of Utah in the matter entitled In re: Federal Resources Corporation and Camp Bird Colorado, Inc. Bankruptcy Case No. 14-33427 KRA. This Settlement Agreement resolves disputes with the Trustee for Debtors Federal Resources Corporation (“FRC”) and Camp Bird Colorado, Inc. (“CBCI”) as well as their former principal Bentley Blum. The proposed settlement will (1) Establish the amounts of the United States claims at the four Sites at issue in the bankruptcies; (2) Provide an allowed preferred claim at the Camp Bird Site; (3) Establish United States' recoveries from FRC's insurance policies; (4) Grant a CNTS from the United States to Mr. Blum, and (5) Resolve all claims the Debtors have for and against Mr. Blum. The claims arise from the Debtors' liabilities under Section 107(a) of CERCLA, 42 U.S.C. 9607(a), for costs incurred and to be incurred relating to four Superfund Sites: The Conjecture Mine Site in Bonner County, Idaho; the Minnie Moore Mine Site in Blaine County, Idaho; the Haystack Mines Site in McKinley County, New Mexico; and the Camp Bird Colorado Mine Site near Ouray, Colorado.

The publication of this notice opens a period for public comment on the Settlement Agreement. Comments should be addressed to the Assistant Attorney General, Environment and Natural Resources Division, and should refer to In re: Federal Resources Corporation and Camp Bird Colorado, Inc. Bankruptcy Case No. 14-33427, D.J. Ref. No. 90-11-3-09515/5. All comments must be submitted no later than twenty (20) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department website: https://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $5.00 (25 cents per page reproduction cost) payable to the United States Treasury. For a paper copy without the exhibits, the cost is $4.00.

Susan M. Akers,
Assistant Section Chief, Environmental Enforcement Section, Environment and Natural Resources Division.

[FR Doc. 2018-18659 Filed 8-28-18; 8:45 am]

BILLING CODE 4410-15-P